DEPARTMENT OF LABOR

Occupational Safety and Health Administration

[Docket No. OSHA-2013-0015]

National Advisory Committee on Occupational Safety and Health (NACOSH)

AGENCY: Occupational Safety and Health Administration (OSHA), Labor.

ACTION: Announcement of a meeting of NACOSH.

SUMMARY: NACOSH will meet June 11, 2013 in Washington, DC.

DATES: NACOSH meeting: NACOSH will meet from 1 p.m. to 5 p.m. e.t., Tuesday, June 11, 2013.

Comments, requests to speak, speaker presentations, and requests for special accommodation: You must submit (postmark, send, transmit) comments, requests to address NACOSH, speaker presentations (written or electronic), and requests for special accommodations for the NACOSH meeting by June 4, 2013.

ADDRESSES: NACOSH meeting: The NACOSH meeting will be in Room C-5320-6, U.S. Department of Labor, 200 Constitution Avenue NW., Washington, DC 20210.

Submission of comments, requests to speak, and speaker presentations: You may submit comments, requests to speak at the NACOSH meeting and speaker presentations, using one of the following methods:

Electronically: You may submit materials, including attachments, electronically at http://www.regulations.gov, which is the Federal eRulemaking Portal. Follow the instructions on that Web page for making submissions;

Facsimile: If your submission, including attachments, does not exceed 10 pages, you may fax it to the OSHA Docket Office at (202) 693-1648; or

Regular mail, express mail, hand delivery, or messenger/courier service: You may submit your materials to the OSHA Docket Office, Docket No. OSHA-2013-0015, Room N-2625, U.S. Department of Labor, 200 Constitution Avenue NW., Washington, DC 20210; telephone (202) 693-2350 (OSHA TTY (887) 889-5627). OSHA's Docket Office accepts deliveries (hand deliveries, express mail, and messenger service) during normal business hours, 8:15 a.m. to 4:45 p.m., e.t., weekdays.

Requests for special accommodation: Please submit requests for special accommodations to attend the NACOSH meeting to Ms. Frances Owens, OSHA, Office of Communications, Room N-3647, U.S. Department of Labor, 200 Constitution Avenue NW., Washington, DC 20210; telephone (202) 693-1999 (OSHA TTY (887) 889-5627); email owens.frances@dol.gov.

Instructions: Your submissions must include the Agency name and docket number for this Federal Register notice (Docket No. OSHA-2013-0015). Due to security-related procedures, submission by regular mail may experience significant delays. Please contact the OSHA Docket Office for information about security procedures for making submissions. For additional information on submitting comments, requests to speak and speaker presentations see the SUPPLEMENTARY INFORMATION section of this notice.

OSHA will post comments, requests to speak, and speaker presentations, including any personal information you provide, without change, at http://www.regulations.gov. Therefore, OSHA cautions you about submitting personal information such as Social Security numbers and birthdates.

FOR FURTHER INFORMATION CONTACT: For press inquiries: Mr. Frank Meilinger, Director, OSHA Office of Communications, U.S. Department of Labor, Room N-3647, 200 Constitution Avenue NW., Washington, DC 20210; telephone (202) 693-1999; email meilinger.francis2@dol.gov.

For general information about NACOSH and NACOSH meetings: Ms. Elizabeth Grossman, Director, OSHA Office of Evaluation and Audit Analysis, Directorate of Evaluation and Analysis, U.S. Department of Labor, Room N-3641, 200 Constitution Avenue NW., Washington, DC 20210; telephone (202) 693-2225; email grossman.elizabeth@dol.gov.

SUPPLEMENTARY INFORMATION:

NACOSH Meeting

NACOSH will meet June 11, 2013, in Washington, DC. Some NACOSH members will participate in the meeting electronically. The NACOSH meeting is open to the public.

Section 7(a) of the Occupational Safety and Health Act of 1970 (OSH Act) (29 U.S.C. 651, 656) authorizes NACOSH to advise the Secretary of Labor and the Secretary of Health and Human Services on matters relating to the administration of the OSH Act. NACOSH is a continuing advisory body and operates in compliance with the OSH Act, the Federal Advisory Committee Act (5 U.S.C. App. 2), and regulations issued pursuant to those laws (29 CFR Part 1912a, 41 CFR Part 102-3).

The focus of this NACOSH meeting will be occupational safety and health issues that temporary workers face. The tentative agenda for the NACOSH meeting includes:

Remarks from the Assistant Secretary of Labor for Occupational Safety and Health (OSHA);

Remarks from the Director of the National Institute of Occupational Safety and Health (NIOSH);

NACOSH discussion of and recommendations on occupational safety and health issues related to temporary workers; and

Public comments.

OSHA transcribes NACOSH meetings and prepares detailed minutes of NACOSH meetings. OSHA places the meeting transcripts and minutes in the public docket for the meeting. The docket also includes speaker presentations, comments, and other materials submitted to NACOSH.

Public Participation, Submissions, and Access to Public Record

NACOSH meeting: All NACOSH meetings are open to the public. Individuals attending NACOSH meetings at the U.S. Department of Labor must enter the building at the Visitors' Entrance at 3rd and C Streets NW., and pass through building security. Attendees must have valid government-issued photo identification (e.g., driver's license) to enter the building. For additional information about building security measures for attending the NACOSH meeting, please contact Ms. Owens (see ADDRESSES section).

Individuals needing special accommodation to attend the NACOSH meeting also should contact Ms. Owens.

Submission of comments: You may submit comments using one of the methods listed in the ADDRESSES section. Your submission must include the Agency name and docket number for this NACOSH meeting (Docket No. OSHA-2013-0015). OSHA will provide copies of submissions to NACOSH members.

Because of security-related procedures, submissions by regular mail may experience significant delays. For information about security procedures for submitting materials by hand delivery, express mail, and messenger or courier service, please contact the OSHA Docket Office (see ADDRESSES section).

Requests to speak and speaker presentations: If you want to address NACOSH at the meeting you must submit your request to speak, as well as any written or electronic presentation, by June 4, 2013, using one of the methods listed in the ADDRESSES section. Your request must state:

• The amount of time requested to speak;

• The interest you represent (e.g., business, organization, affiliation), if any; and

• A brief outline of the presentation.

PowerPoint presentations and other electronic materials must be compatible with PowerPoint 2010 and other Microsoft Office 2010 formats. The NACOSH Chair may grant requests to address NACOSH as time and circumstances permit.

Public docket of the NACOSH meeting: OSHA places comments, requests to speak and speaker presentations, including any personal information you provide, in the public record of this NACOSH meeting without change, and those documents may be available online at http://www.regulations.gov. Therefore, OSHA cautions you about submitting certain personal information such as Social Security numbers and birthdates.

OSHA also places in the public docket the meeting transcript, meeting minutes, documents presented at the NACOSH meeting, and other documents pertaining to the NACOSH meeting. These documents are available online at http://www.regulations.gov. Access to the public record of NACOSH meetings: To read or download documents in the public docket of this NACOSH meeting, go to Docket No. OSHA-2013-0015 at http://www.regulations.gov. The http://www.regulations.gov index lists all documents in the public record for this meeting; however, some documents (e.g., copyrighted materials) are not publicly available through that Web page. All documents in the public record, including materials not available through http://www.regulations.gov, are available for inspection and copying in the OSHA Docket Office (see ADDRESSES section). Please contact the OSHA Docket Office for assistance in making submissions to, or obtaining materials from, the public docket.

Electronic copies of this Federal Register notice are available at http://www.regulations.gov. This notice, as well as news releases and other relevant information, are also available on the OSHA Web page at http://www.osha.gov.

Authority and Signature

David Michaels, Ph.D., MPH, Assistant Secretary of Labor for Occupational Safety and Health, authorized the preparation of this notice under the authority granted by Section 7 of the Occupational Safety and Health Act of 1970 (29 U.S.C. 656), the Federal Advisory Committee Act (5 U.S.C. App. 2); 29 CFR Part 1912a; 41 CFR Part 102-3; and Secretary of Labor's Order No. 1-2012 (77 FR 3912 (1/25/2012)).

Signed at Washington, DC, on May 17, 2013.
David Michaels,
Assistant Secretary of Labor for Occupational Safety and Health.

[FR Doc. 2013-12277 Filed 5-22-13; 8:45 am]

BILLING CODE 4510-26-P